DEPARTMENT OF AGRICULTURE

U.S. Codex Office

Codex Alimentarius Commission: Meeting of the Codex Committee on Nutrition and Foods for Special Dietary Uses

AGENCY: U.S. Codex Office, USDA.

ACTION: Notice of public meeting and request for comments.

SUMMARY: The U.S. Codex Office is sponsoring a public meeting on September 3, 2024. The objective of the public meeting is to provide information and receive public comments on agenda items and draft U.S. positions to be discussed at the 44th Session of the Codex Committee on Nutrition and Foods for Special Dietary Uses (CCNFSDU44) of the Codex Alimentarius Commission (CAC), which will convene in Dresden, Germany, from October 2-6, 2024. The U.S. Manager for Codex Alimentarius and the Under Secretary for Trade and Foreign Agricultural Affairs recognize the importance of providing interested parties the opportunity to obtain background information on the 44th Session of the CCNFSDU and to address items on the agenda.

DATES: The public meeting is scheduled for September 3, 2024, from 1:00-4:00 p.m. Eastern Time.

ADDRESSES: The public meeting will take place via Video Teleconference only. Documents related to the 44th Session of the CCNFSDU will be accessible via the internet at the following address: https://www.fao.org/fao-who-codexalimentarius/meetings/detail/en/?meeting=CCNFSDU&session=44.

Dr. Douglas Balentine, U.S. Delegate to the 44th Session of the CCNFSDU, invites interested U.S. parties to submit their comments electronically to the following email address: douglas.balentine@fda.hhs.gov.

Registration: Attendees may register to attend the public meeting here: https://www.zoomgov.com/meeting/register/vJItceuoqz4oHyMYdr-E7FAIhAe9uJbwt7w. After registering, you will receive a confirmation email containing information about joining the meeting.

For further information about the 44th Session of the CCNFSDU, contact U.S. Delegate, Dr. Douglas Balentine, Senior Science Advisor, International Nutrition Policy, Center for Food Safety and Applied Nutrition, U.S. Food and Drug Administration, by phone at (240) 672-7292 or email at douglas.balentine@fda.hhs.gov. For an additional information about the public meeting, contact the U.S. Codex Office by email at uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Nutrition and Foods for Special Dietary Uses (CCNFSDU) are:

(a) To study specific nutritional problems assigned to it by the Commission and advise the Commission on general nutrition issues;

(b) To draft general provisions, as appropriate, concerning the nutritional aspects of all foods;

(c) To develop standards, guidelines, or related texts for foods for special dietary uses, in cooperation with other committees where necessary;

(d) To consider, amend if necessary, and endorse provisions on nutritional aspects proposed for inclusion in Codex standards, guidelines, and related texts.

The CCNFSDU is hosted by Germany. The United States attends the CCNFSDU as a member country of Codex.

Issues To Be Discussed at the Public Meeting

The following items from the Agenda for the 44th Session of the CCNFSDU will be discussed during the public meeting:

• Matters referred to the Committee by the Codex Alimentarius Commission and/or its subsidiary bodies

• Matters arising from FAO and WHO

• Nutrient Reference Values—Requirements (NRVs-R) for persons aged 6-36 months

• General principles for the establishment of NRVs-R for persons aged 6-36 months

• Technological justification for several food additives

• Prioritization mechanism/emerging issues or new work proposals

• Guideline for the preliminary assessment to identify and prioritize new work for CCNFSDU

• Proposals for new work/emerging issues (replies to CL 2024/52-NFSDU)

• Discussion paper on harmonized probiotic guidelines for use in foods and food supplements

• Review of texts under the purview of CCNFSDU

• Discussion paper on the use of fructans, beta-carotene, lycopene in Standard for Infant Formula and Formulas for Special Medical Purposes Intended for Infants (CXS 72-1981)

• Discussion paper on methods of assessing the sweetness of carbohydrate sources in the Standard for Follow-up Formula (CXS 156-1987)

• Other business and future work

Public Meeting

At the September 3, 2024, public meeting, draft U.S. positions on the agenda items will be described and discussed, and attendees will have the opportunity to pose questions and offer comments. Written comments may be offered at the meeting or sent to Dr. Douglas Balentine, U.S. Delegate to the 44th Session of the CCNFSDU, at douglas.balentine@fda.hhs.gov. Written comments should state that they relate to activities of the 44th Session of the CCNFSDU.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on June 18, 2024.
Mary Frances Lowe,
U.S. Manager for Codex Alimentarius.

[FR Doc. 2024-13850 Filed 6-24-24; 8:45 am]

BILLING CODE P